DEFENSE NUCLEAR FACILITIES SAFETY BOARD

Notice of Designation of Policy-Making Positions

AGENCY: Defense Nuclear Facilities Safety Board.

ACTION: Notice of determination of policy-making positions.

SUMMARY: The Defense Nuclear Facilities Safety Board (DNFSB) has determined that the Deputy General Counsel position is of a policy-determining and policy-advocating character and is not normally subject to change as a result of a Presidential transition. Accordingly, this position is designated as a Schedule Policy/Career position.

DATES: April 21, 2025.

ADDRESSES: 625 Indiana Ave. NW, Washington, DC 20004.

FOR FURTHER INFORMATION CONTACT: Kyle Johnson, Chief of Staff, 625 Indiana Ave. NW, Washington, DC 20004, (202) 694-7000.

SUPPLEMENTARY INFORMATION: Executive Order 13957 (85 FR 67631 (Oct. 21, 2020)), as amended by Executive Order 14171 (90 FR 8625 (Jan. 31, 2025)) directs agencies to conduct a review of agency positions and, “for positions excepted from the competitive service by statute, determine which such positions are of a confidential, policy-determining, policy-making, or policy-advocating character and are not normally subject to change as a result of a Presidential transition.” Id. at 67633. Agencies were further directed to “publish this determination in the Federal Register.” Id.

DNFSB has conducted a review of agency positions and determined that the Deputy General Counsel position is of a policy-determining and policy-advocating character and is not normally subject to change as a result of a Presidential transition. Accordingly, this position is designated as a Schedule Policy/Career position. This determination is based on the duties of the Deputy General Counsel position, which fall within those outlined in section 5(c) of Executive Order 13957 and the Office of Personnel Management's guidance issued on January 27, 2025.

Authority: E.O. 13957, 85 FR 67631.

Dated: April 21, 2025.
On behalf of the Board.
Thomas A. Summers,
Acting Chairman, Defense Nuclear Facilities Safety Board.

[FR Doc. 2025-07093 Filed 4-23-25; 8:45 am]

BILLING CODE 3670-01-P